DEPARTMENT OF HOMELAND SECURITY

U.S. Customs and Border Protection

[CBP Dec. 12-09]

Tuna—Tariff-Rate Quota; the Tariff-Rate Quota for Calendar Year 2012 Tuna Classifiable Under Subheading 1604.14.22, Harmonized Tariff Schedule of the United States (HTSUS); Correction

AGENCY: U.S. Customs and Border Protection, Department of Homeland Security.

ACTION: Announcement of the quota quantity of tuna in airtight containers for Calendar Year 2012; correction.

SUMMARY: U.S. Customs and Border Protection (CBP) published in the Federal Register of April 17, 2012, a document concerning tariff rates for tuna in airtight containers for Calendar Year 2012. Inadvertently, no CBP Decision Number was listed in the heading of that document. This document corrects the April 17, 2012 document to reflect that the CBP Decision Number is 12-09 as set forth above.

DATES: Effective Dates: This correction is effective May 1, 2012. The 2012 tariff- rate quota is applicable to tuna fish entered, or withdrawn from warehouse, for consumption during the period January 1, through December 31, 2012.

FOR FURTHER INFORMATION CONTACT: Ryan Olden, Regulations and Rulings, Office of International Trade, (202) 325-0009.

Correction

In notice document, FR Doc. 2012-9131, beginning on page 22796 in the issue of Tuesday, April 17, 2012, make the following correction in the third column:

Insert “CBP Dec. 12-09” into the heading of the document between the agency name, “U.S. Customs and Border Protection,” and the title of the document, “Tuna—Tariff-Rate Quota; the Tariff-Rate Quota for Calendar Year 2012 Tuna Classifiable under Subheading 1604.14.22, Harmonized Tariff Schedule of the United States (HTSUS).”

Dated: April 25, 2012.
Harold M. Singer,
Director, Regulations and Disclosure Law Division, U.S. Customs and Border Protection.

[FR Doc. 2012-10409 Filed 4-30-12; 8:45 am]

BILLING CODE 9111-14-P